SMALL BUSINESS ADMINISTRATION

[License No. 05/05-0293]

Convergent Capital Partners II, L.P.; Notice Seeking Exemption Under Section 312 of the Small Business Investment Act, Conflicts of Interest

Notice is hereby given that Convergent Capital Partners II, L.P., 505 North Highway 169, Suite 245, Minneapolis, MN 55441, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107). Convergent Capital Partners II, L.P., proposes to provide debt financing to Key Health Group, Inc., 30699 Russell Ranch Road #170, Westlake Village, CA 91362-7315. The financing is contemplated to provide capital that contributes to the growth and overall sound financing of the Key Health Group, Inc.

The financing is brought within the purview of § 107.730(a)(1) and § 107.730(a)(4) of the Regulations because Convergent Capital Partners II, L.P.'s financing will discharge an obligation owed to Convergent Capital Partners I, L.P., which is considered an Associate and because Convergent Capital Partners I, L.P., has a potential equity interest in Key Health Group, Inc. of greater than ten percent.

Notice is hereby given that any interested person may submit written comments on the transaction to the Associate Administrator for Investment and Innovation, U.S. Small Business Administration, 409 Third Street, SW., Washington, DC 20416.

Sean J. Greene,
Associate Administrator for Investment.

[FR Doc. 2011-8091 Filed 4-4-11; 8:45 am]

BILLING CODE 8025-01-P